ENVIRONMENTAL PROTECTION AGENCY

[FRL-9278-2]

Science Advisory Board Staff Office; Notification of a Public Meeting of the SAB Drinking Water Committee Augmented for the Review of the Effectiveness of Partial Lead Service Line Replacements

AGENCY: Environmental Protection Agency (EPA).

ACTION: Notice.

SUMMARY: The EPA Science Advisory Board (SAB) Staff Office announces a public meeting of the SAB Drinking Water Committee Augmented for the Review of the Effectiveness of Partial Lead Service Line Replacements to review technical studies examining the effectiveness of partial lead service line replacements.

DATES: There will be a public meeting held on March 30, 2011 from 9 a.m. to 5 p.m. and March 31, 2011 from 8:30 a.m. to 4 p.m. (Eastern Time).

ADDRESSES: The face-to-face meeting will be held at the Westin Alexandria Hotel, 400 Courthouse Square, Alexandria, VA 22314.

FOR FURTHER INFORMATION CONTACT: Any member of the public wishing to obtain information concerning the public meeting may contact Mr. Aaron Yeow, Designated Federal Officer (DFO), EPA Science Advisory Board Staff Office (1400R), U.S. Environmental Protection Agency, 1200 Pennsylvania Avenue, NW., Washington, DC 20460; by telephone/voice mail at (202) 564-2050 or at yeow.aaron@epa.gov. General information about the SAB, as well as any updates concerning the meeting announced in this notice, may be found on the EPA Web site at http://www.epa.gov/sab.

SUPPLEMENTARY INFORMATION: Background: The SAB was established pursuant to the Environmental Research, Development, and Demonstration Authorization Act (ERDAA), codified at 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that the SAB DWC Augmented for the Review of the Effectiveness of Partial Lead Service Line Replacements will hold a public meeting to review technical studies examining the effectiveness of partial lead service line replacements. The SAB will comply with the provisions of FACA and all appropriate SAB Staff Office procedural policies.

Exposure to lead through drinking water results primarily from the corrosion of lead pipes and plumbing materials. EPA's Office of Water (OW) promulgated the Lead and Copper Rule (LCR) to minimize the amount of lead in drinking water. The LCR requires water systems that are not able to limit lead corrosion through treatment to replace service lines (pipes connecting buildings to water distribution mains) that are made from lead. Water systems must replace the portion of the lead service line owned by the system and offer to replace the customer's portion at the customer's cost. When customers do not replace their portion of the service line, the situation is called a “partial lead service line replacement.” OW has requested the SAB to review and provide advice on recent studies examining the effectiveness of partial lead service line replacements. SAB's advice will guide EPA's determination of whether the scientific foundation for the regulatory requirement allowing the use of partial lead service line replacement may need to be modified in light of more recent scientific studies.

Availability of Meeting Materials: Agendas and materials in support of this meeting will be placed on the EPA Web site at http://www.epa.gov/sab in advance of the meeting. For technical questions and information concerning the review materials please contact Mr. Jeffrey Kempic of EPA's Office of Water at (202) 564-4880, or kempic.jeffrey@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public face-to-face meeting will be limited to five minutes. Each person making an oral statement should consider providing written comments as well as their oral statement so that the points presented orally can be expanded upon in writing. Interested parties should contact Mr. Aaron Yeow, DFO, in writing (preferably via e-mail) at the contact information noted above by March 23, 2011 for the face-to-face meeting, to be placed on the list of public speakers. Written Statements: Written statements should be supplied to the DFO via email at the contact information noted above by March 23, 2011 for the face-to-face meeting so that the information may be made available to the Panel members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Aaron Yeow at (202) 564-2050 or yeow.aaron@epa.gov. To request accommodation of a disability, please contact Mr. Yeow preferably at least ten days prior to each meeting to give EPA as much time as possible to process your request.

Dated: March 3, 2011.
Anthony F. Maciorowski,
Deputy Director, EPA Science Advisory Staff Office.

[FR Doc. 2011-5535 Filed 3-9-11; 8:45 am]

BILLING CODE 6560-50-P